DEPARTMENT OF LABOR

Employment and Training Administration

[TA-W-50,181]

Eagle Zinc Company, Hillsboro, IL; Notice of Termination of Investigation

Pursuant to section 221 of the Trade Act of 1974, as amended, an investigation was initiated on November 25, 2002, in response to a worker petition filed by the company on behalf of workers at Eagle Zinc Company, Hillsboro, Illinois.

The petitioning group of workers is covered by an earlier petition (TA-W-50,175) filed on November 25, 2002 that is the subject of an ongoing investigation for which a determination has not yet been issued. Further investigation in this case (TA-W-50,181), would duplicate efforts and serve no purpose, and the investigation has been terminated.

Signed at Washington, DC this 9th day of December, 2002.
Elliott S. Kushner,
Certifying Officer, Division of Trade Adjustment Assistance.

[FR Doc. 03-408 Filed 1-8-03; 8:45 am]

BILLING CODE 4510-30-P